DEPARTMENT OF ENERGY

Federal Energy Regulatory Commission

[Project No. 5737-032]

Santa Clara Valley Water District; Notice of Reasonable Period of Time for Water Quality Certification Application

On July 24, 2024, the California State Water Resources Control Board (Water Board) submitted to the Federal Energy Regulatory Commission (Commission) notice that it received a request for a Clean Water Act section 401(a)(1) water quality certification as defined in 40 CFR 121.5, from the Santa Clara Valley Water District in conjunction with the above captioned project on June 28, 2024. We hereby notify the Water Board of the following:

Date of Receipt of the Certification Request: June 28, 2024.

Reasonable Period of Time to Act on the Certification Request: One year, June 28, 2025.

If the Water Board fails or refuses to act on the water quality certification request on or before the above date, then the certifying authority is deemed waived pursuant to section 401(a)(1) of the Clean Water Act, 33 U.S.C. 1341(a)(1).

Dated: August 7, 2024.
Debbie-Anne A. Reese,
Acting Secretary.

[FR Doc. 2024-18060 Filed 8-13-24; 8:45 am]

BILLING CODE 6717-01-P